DEPARTMENT OF TRANSPORTATION

Federal Aviation Administration

14 CFR Part 71

[Docket No. FAA-2005-22472; Airspace Docket No. 05-AGL-08]

Establishment of Class D Airspace; Camp Ripley, MN; Establishment of Class E Airspace; Camp Ripley, MN

AGENCY: Federal Aviation Administration (FAA), DOT.

ACTION: Final rule.

SUMMARY: This action establishes Class D airspace at Camp Ripley, MN, and establishes Class E airspace at Camp Ripley, MN. This action establishes a radius of Class D airspace, and establishes a radius of Class E airspace for Ray S. Miller Army Airfield.

DATES: Effective Date: 0901 UTC, June 8, 2006.

FOR FURTHER INFORMATION CONTACT: Steve Davis, FAA Terminal Operations, Central Service Office, Airspace and Procedures Branch, AGL-530, 2300 East Devon Avenue, Des Plaines, Illinois 60018, telephone (847) 294-7131.

SUPPLEMENTARY INFORMATION:

History

On Monday, October 31, 2005, the FAA proposed to amend 14 CFR part 71 to establish Class D airspace, and establish Class E airspace at Camp Ripley, MN (70 FR 62257). The proposal was to establish Class D airspace, and establish Class E airspace extending upward from the surface of the earth to contain Instrument Flight Rules (IFR) operations in controlled airspace during portions of the terminal operation and while transiting between the enroute and terminal environments.

Interested parties were invited to participate in this rulemaking proceeding by submitting written comments on the proposal to the FAA. No comments objecting to the proposal were received. Class D airspace designations are published in paragraph 5000, and Class E airspace areas designated as surface areas in paragraph 6002, of FAA Order 7400.9N dated September 1, 2005, and effective September 16, 2005, which is incorporated by reference in 14 CFR 71.1. The Class D and Class E airspace designations listed in this document will be published subsequently in the Order.

The Rule

This amendment to 14 CFR part 71 establishes Class D airspace at Camp Ripley, MN, and establishes Class E airspace at Camp Ripley, MN, to accommodate aircraft executing instrument flight procedures into and out of Ray S. Miller Army Airfield. The area will be depicted on appropriate aeronautical charts.

The FAA has determined that this regulation only involves an established body of technical regulations for which frequent and routine amendments are necessary to keep them operationally curent. Therefore, this regulation—(1) is not a “significant regulatory action” under Executive Order 12866; (2) is not a “significant rule” under DOT Regulatory Policies and Procedures (44 FR 11034; February 26, 1979); and does not warrant preparation of a Regulatory Evaluation as the anticipated impact is so minimal. Since this is a routine matter that will only affect air traffic procedures and air navigation, it is certifield that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES, AND REPORTING POINTS

1. The authority citation for part 71 continues to read as follows:

Authority: 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9N, Airspace Designations and Reporting Points, dated September 1, 2005, and effective September 16, 2005, is amended as follows:

* * * * *

Paragraph 5000 Class D airspace.

* * * * *

AGL MN D Camp Ripley, MN [New]

Camp Ripley, Ray S. Miller Army Airfield, MN

(Lat. 46°05′28″ N., long. 94°21′38″ W.)

That airspace extending upward from the surface to and including 3,700 feet MSL within a 3.9-mile radius of the Ray S. Miller Army Airfield. This Class D airspace area is effective during the specific dates and times established in advance by a Notice to Airmen. The effective date and time will thereafter be continuously published in the Airport/Facility Directory.

* * * * *

Paragraph 6002 Class E airspace designated as surface areas.

* * * * *

AGL MN E2 Camp Ripley, MN [New]

Camp Ripley, Ray S. Miller Army Airfield, MN

(Lat. 46°05′28″ N., long. 94°21′38″ W.)

Within a 3.9-mile radius of the Ray S. Miller Army Airfield. This Class E airspace area is effective during the specific dates and times established in advance by a Notice to Airmen. The effective date and time will thereafter be continuously published in the Airport/Facility Directory.

* * * * *

Issued in Des Plaines, Illinois, on March 22, 2006.
Nancy B. Kort,
Area Director, Central Terminal Operations.

[FR Doc. 06-3426 Filed 4-10-05; 8:45 am]

BILLING CODE 4910-13-M